DEPARTMENT OF EDUCATION

[Docket No.: ED-2013-ICCD-0121]

Agency Information Collection Activities; Comment Request; Highly Qualified Teachers Clearance

AGENCY: Office of Planning, Evaluation and Policy Development (OPEPD), Department of Education (ED).

ACTION: Notice.

SUMMARY: In accordance with the Paperwork Reduction Act of 1995 (44 U.S.C. chapter 3501 et seq.), ED is proposing a new information collection.

DATES: Interested persons are invited to submit comments on or before November 12, 2013.

ADDRESSES: Comments submitted in response to this notice should be submitted electronically through the Federal eRulemaking Portal at http://www.regulations.gov by selecting Docket ID number ED-2013-ICCD-0121 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 2E103, Washington, DC 20202-4537.

FOR FURTHER INFORMATION CONTACT: For questions related to collection activities or burden, please call Kathy Axt 540-776-7742 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Highly Qualified Teachers Clearance

OMB Control Number: 1875-NEW

Type of Review: A new information collection.

Respondents/Affected Public: State, Local, or Tribal Governments

Total Estimated Number of Annual Responses: 17,053

Total Estimated Number of Annual Burden Hours: 115,000

Abstract: As set forth in Section 145(b) of H.J. Res. 117, the Fiscal Year 2013 Continuing Resolution (CR) Congress directed the U.S. Department of Education (ED) to submit a report to Congress on December 31, 2013, regarding the degree to which certain populations of students (students with disabilities, English language learners, rural students, and economically disadvantaged students) are taught by teachers participating in an alternative route to certification program. State educational agencies (SEAs) and local educational agencies (LEAs) have not been required to collect nor report this information. The requisite data must be reported from schools to LEAs to SEAs. ED respectfully seeks clearance to collect this information required to answer Congress's directive. It is anticipated that the collection is needed for one year only; hence, SEAs are not likely to alter their data collection and reporting systems to meet this data reporting requirement.

Kate Mullan,
Acting Director, Information Collection Clearance Division, Privacy, Information and Records Management Services, Office of Management.

[FR Doc. 2013-22196 Filed 9-11-13; 8:45 am]

BILLING CODE 4000-01-P